DEPARTMENT OF HEALTH AND HUMAN SERVICES

Administration for Children and Families

Submission for OMB Review; Comment Request

Title: Grants for Battered Women's Shelters.

OMB No.: New collection.

Description: This information collection is authorized under Title III of the Child Abuse Amendments of 1984, Public Law 98-457, as amended. In response to the program announcement, the respondents must submit information about their services program and their eligibility. Information that is collected is used to award grants under the Grants for Battered Women's Shelters program.

Respondents: State agencies administering the Family Violence Prevention and Services program.

Annual Burden Estimates
Instrument | Number of respondents | Number of responses per respondent | Average burden hours per response | Total burden hours
State FVPSA Agencies | 53 | 1 | 6 | 318
Estimated Total Annual Burden Hours |  |  |  | 318

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: January 26, 2005.
Robert Sargis,
Reports Clearance Officer.

[FR Doc. 05-1895 Filed 2-1-05; 8:45 am]

BILLING CODE 4184-01-M